DEPARTMENT OF DEFENSE

Office of the Secretary

Renewal of 18 Department of Defense Federal Advisory Committees

AGENCY: DoD.

ACTION: Establishment of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it intents to establish the U.S. Southern Command Advisory Group, as a discretionary Federal advisory committee.

This committee will provide the Secretary of Defense, through the Chairman of the Joint Chiefs of Staff and the Commander, U.S. Southern Command independent advice and recommendations on the dynamic, transnational challenges facing the United States and its allies with respect to the U.S. Southern Command responsibilities. In accordance with DoD policy and procedures, the Commander U.S. Southern Command is authorized to act upon the advice emanating from this advisory committee.

The U.S. Southern Command Advisory Group shall be composed of no more than 25 members who are eminent authorities in the fields of national defense, geopolitical and national security affairs, or Latin America and the Caribbean. Committee members appointed by the Secretary of Defense, who are not full-time Federal officers or employees, shall serve as Special Government Employees under the authority of 5 U.S.C. 3109.

The U.S. Southern Command Advisory Group, in keeping with DoD policy to make every effort to achieve a balanced membership, include a cross section of experts directly affected, interested and qualified to advice on US security interests in the Americas. Committee members shall be appointed on an annual basis by the Secretary of Defense, and with the exception of travel and per diem for official travel, shall serve without compensation. The Commander, U.S. Southern Command shall select the committee's chairperson from the committee's membership at large.

The U.S. Southern Command Advisory Group shall meet at the call of the committee's Designated Federal Officer, in consultation with the Chairperson and the Commander U.S. Southern Command. The Designated Federal Officer shall be a full-time or permanent part-time DoD employee, and shall be appointed in accordance with established DoD policies and procedures. The Designated Federal Officer or duly appointed Alternate Designated Federal Officer shall attend all committee meetings and subcommittee meetings.

The U.S. Southern Command Advisory Group shall be authorized to establish subcommittees, as necessary and consistent with its mission, and these subcommittees or working groups shall operate under the provisions of the Federal Advisory Committee Act of 1972 (5 U.S.C., Appendix, as amended), the Sunshine in the Government Act of 1976 (5 U.S.C. 552b, as amended), and other appropriate Federal regulations.

Such subcommittees or workgroups shall not work independently of the chartered committee, and shall report all their recommendations and advice to the U.S. Southern Command Advisory Group for full deliberation and discussion. Subcommittees or workgroups have no authority to make decisions on behalf of the chartered committee nor can they report directly to the Department of Defense or any Federal officers or employees who are not members of the U.S. Southern Command Advisory Group.

FOR FURTHER INFORMATION CONTACT: Frank Wilson, DoD Committee Management Officer, 703-601-2554.

Dated: March 12, 2007.
C.R. Choate,
Alternate OSD Federal Register Liaison Officer, Department of Defense.

[FR Doc. 07-1316 Filed 3-16-07; 8:45 am]

BILLING CODE 5001-08-M